DEPARTMENT OF HOUSING AND URBAN DEVELOPMENT

[Docket No. FR-5603-N-25]

Notice of Submission of Proposed Information Collection to OMB Public Housing Agency Plan

AGENCY: Office of the Chief Information Officer, HUD.

ACTION: Notice.

SUMMARY: The proposed information collection requirement described below has been submitted to the Office of Management and Budget (OMB) for review, as required by the Paperwork Reduction Act. The Department is soliciting public comments on the subject proposal.

The PHA Plan is a comprehensive guide to PHA policies, programs, operations, and strategies for meeting local housing needs and goals. The PHA Plan informs HUD, residents, and the public of the PHA's mission for serving the needs of low, very low-income, and extremely low-income families and its strategy for addressing those needs. This data allows HUD to monitor the performance of programs and the performance of public housing agencies that administer the programs. The PHA Plan is being revised to address, clarify and provide additional guidance on the submission requirements for qualified and nonqualified PHAs, as well as to address previous public comments. Section 2702 of Title VII—Small Public Housing Authorities Paperwork Reduction Act, of the Housing and Economic Recovery Act (HERA) of 2008 amends section 5A(b) of the 1937 Act by establishing “qualified public housing agencies,” a category of PHAs with less than 550 public housing units and tenant-based vouchers combined that are provided substantial paperwork relief, primarily with respect to the PHA Annual Plan requirements in section 5(A)(b) of the United States Housing Act of 1937. The paperwork relief exempts qualified PHAs from the requirement to prepare and submit an annual PHA plan to HUD for review. This Act impacts approximately seventy-four percent, or 2,994 of the 4,053 PHAs that are required to submit an annual PHA plan. In addition to the exemption from submitting annual plans for qualified agencies, because of the different annual plan submission requirements of agencies that are considered standard, high-performer, Housing Choice Voucher (HCV) only, small, and troubled within 24 CFR part 903, the existing approved forms were determined to be incompatible with the program requirements. Therefore, some previously approved forms have been separated into new forms that will be completed by different classes of PHAs. These changes also reflect recommendations made by the public in a previous information collection. Specifically, this information collection revises previously approved OMB forms HUD-50077-SL and HUD-50077-CR; adds Certifications of Compliance with PHA Plans and Related Regulations (form HUD-50077-SM-HP and HUD-50077-ST-HCV) formerly appearing on form HUD 50077 as separate documents; deletes approved OMB form HUD-50075, and replaces that form with five new forms (form HUD-50075-5Y, HUD-50075-ST, HUD-50075-SM-HP, HUD-50075-HCV, and HUD-50075-QA). Qualified PHAs no longer submit information on discretionary programs (demolition or disposition, HOPE VI, Project-based vouchers, required or voluntary conversion, homeownership, or capital improvements, etc.) as part of an Annual PHA Plan submission. However, Qualified PHAs that intend to implement these activities are still subject to the full application and approval processes that exist for demolition or disposition, designated housing, conversion, homeownership, and other special application processes that will no longer be tied to prior authorization in an Annual PHA Plan for a Qualified PHA. All PHAs, including the PHAs identified as Qualified PHAs under HERA, must continue to submit any demolition or disposition, public housing conversion, homeownership, or other special applications as applicable to HUD's Special Applications Center (SAC) in Chicago for review and approval or to HUD Headquarters for CFFP proposals.

It is expected that Qualified PHAs, as a matter of good business practice, continue to keep their residents, the general public, and the local HUD office apprised of any plans to initiate these types of programs and activities.

DATES: Comments Due Date: May 11, 2012.

ADDRESSES: Interested persons are invited to submit comments regarding this proposal. Comments should refer to the proposal by name and/or OMB approval Number (2577-0226) and should be sent to: HUD Desk Officer, Office of Management and Budget, New Executive Office Building, Washington, DC 20503; fax: 202-395-5806. Email: OIRA_Submission@omb.eop.gov fax: 202-395-5806.

FOR FURTHER INFORMATION CONTACT: Colette Pollard, Reports Management Officer, QDAM, Department of Housing and Urban Development, 451 Seventh Street SW., Washington, DC 20410; email Colette Pollard at Colette.Pollard@hud.gov. or telephone (202) 402-3400. This is not a toll-free number. Copies of available documents submitted to OMB may be obtained from Ms. Pollard.

SUPPLEMENTARY INFORMATION: This notice informs the public that the Department of Housing and Urban Development has submitted to OMB a request for approval of the Information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This notice also lists the following information:

Title of Proposal: Public Housing Agency Plan.

OMB Approval Number: 2577-0226.

Form Numbers: 50075-SM-HP, HUD 50075-5Y, HUD-50077-CR, HUD-50077-ST-HCV, HUD-50077-CRT-SM-HP, HUD-50075-ST, HUD-50075-PHA HCV, HUD-50075.2, HUD-50075.1, HUD-50075-SM-HP, HUD 50077-SL, HUD-50075-QA.

Description of the Need for the Information and its Proposed Use: The PHA Plan is a comprehensive guide to PHA policies, programs, operations, and strategies for meeting local housing needs and goals. The PHA Plan informs HUD, residents, and the public of the PHA's mission for serving the needs of low, very low-income, and extremely low-income families and its strategy for addressing those needs. This data allows HUD to monitor the performance of programs and the performance of public housing agencies that administer the programs. The PHA Plan is being revised to address, clarify and provide additional guidance on the submission requirements for qualified and nonqualified PHAs, as well as to address previous public comments. Section 2702 of Title VII—Small Public Housing Authorities Paperwork Reduction Act, of the Housing and Economic Recovery Act (HERA) of 2008 amends section 5A(b) of the 1937 Act by establishing “qualified public housing agencies,” a category of PHAs with less than 550 public housing units and tenant-based vouchers combined that are provided substantial paperwork relief, primarily with respect to the PHA Annual Plan requirements in section 5(A)(b) of the United States Housing Act of 1937. The paperwork relief exempts qualified PHAs from the requirement to prepare and submit an annual PHA plan to HUD for review. This Act impacts approximately seventy-four percent, or 2,994 of the 4,053 PHAs that are required to submit an annual PHA plan. In addition to the exemption from submitting annual plans for qualified agencies, because of the different annual plan submission requirements of agencies that are considered standard, high-performer, Housing Choice Voucher (HCV) only, small, and troubled within 24 CFR part 903, the existing approved forms were determined to be incompatible with the program requirements. Therefore, some previously approved forms have been separated into new forms that will be completed by different classes of PHAs. These changes also reflect recommendations made by the public in a previous information collection. Specifically, this information collection revises previously approved OMB forms HUD-50077-SL and HUD-50077-CR; adds Certifications of Compliance with PHA Plans and Related Regulations (form HUD-50077-SM-HP and HUD-50077-ST-HCV) formerly appearing on form HUD 50077 as separate documents; deletes approved OMB form HUD-50075, and replaces that form with five new forms (form HUD-50075-5Y, HUD-50075-ST, HUD-50075-SM-HP, HUD-50075-HCV, and HUD-50075-QA). Qualified PHAs no longer submit information on discretionary programs (demolition or disposition, HOPE VI, Project-based vouchers, required or voluntary conversion, homeownership, or capital improvements, etc.) as part of an Annual PHA Plan submission. However, Qualified PHAs that intend to implement these activities are still subject to the full application and approval processes that exist for demolition or disposition, designated housing, conversion, homeownership, and other special application processes that will no longer be tied to prior authorization in an Annual PHA Plan for a Qualified PHA. All PHAs, including the PHAs identified as Qualified PHAs under HERA, must continue to submit any demolition or disposition, public housing conversion, homeownership, or other special applications as applicable to HUD's Special Applications Center (SAC) in Chicago for review and approval or to HUD Headquarters for CFFP proposals.

It is expected that Qualified PHAs, as a matter of good business practice, continue to keep their residents, the general public, and the local HUD office apprised of any plans to initiate these types of programs and activities.

| Number of respondents | Annual responses | × | Hours per response | Burden hours
Reporting Burden | 4,053 | 1 |  | 5.006 | 20,290

Status: Reinstatement with change of a previously approved collection.

Authority: Section 3507 of the Paperwork Reduction Act of 1995, 44 U.S.C. 35, as amended.

Dated: April 5, 2012.
Colette Pollard,
Department Reports Management Officer, Office of the Chief Information Officer.

[FR Doc. 2012-8760 Filed 4-10-12; 8:45 am]

BILLING CODE 4210-67-P